DEPARTMENT OF ENERGY

Energy Information Administration

Agency Information Collection Activities: Submission for OMB Review; Comment Request

AGENCY: Energy Information Administration (EIA), Department of Energy (DOE).

ACTION: Agency information collection activities: submission for OMB review; comment request.

SUMMARY: The EIA has submitted the Uranium Data Program Forms EIA-851A, “Domestic Uranium Production Report—Annual,” EIA-851Q, “Domestic Uranium Production Report—Quarterly,” and EIA-858, “Uranium Marketing Annual Survey,” to the Office of Management and Budget (OMB) for review and a three-year extension under section 3507(h)(1) of the Paperwork Reduction Act of 1995 (Pub. L. 104-13) (44 U.S.C. 3501 et seq., at 3507(h)(1)).

DATES: Comments must be filed by October 12, 2006. If you anticipate that you will be submitting comments but find it difficult to do so within that period, you should contact the OMB Desk Officer for DOE listed below as soon as possible.

ADDRESSES: Send comments to John Asalone, OMB Desk Officer for DOE, Office of Information and Regulatory Affairs, Office of Management and Budget. To ensure receipt of the comments by the due date, submission by FAX at 202-395-7285 or e-mail to John_A._Asalone@omb.eop.gov is recommended. The mailing address is 726 Jackson Place NW., Washington, DC 20503. The OMB DOE Desk Officer may be telephoned at (202) 395-4650. (A copy of your comments should also be provided to EIA's Statistics and Methods Group at the address below.)

FOR FURTHER INFORMATION CONTACT: Requests for additional information should be directed to Kara Norman. To ensure receipt of the comments by the due date, submission by FAX (202-287-1705) or e-mail (kara.norman@eia.doe.gov) is also recommended. The mailing address is Statistics and Methods Group (EI-70), Forrestal Building, U.S. Department of Energy, Washington, DC 20585-0670. Kara Norman may be contacted by telephone at (202) 287-1902.

SUPPLEMENTARY INFORMATION: This section contains the following information about the energy information collection submitted to OMB for review: (1) The collection numbers and title; (2) the sponsor (i.e., the Department of Energy component; (3) the current OMB docket number (if applicable); (4) the type of request (i.e., new, revision, extension, or reinstatement); (5) response obligation (i.e., mandatory, voluntary, or required to obtain or retain benefits); (6) a description of the need for and proposed use of the information; (7) a categorical description of the likely respondents; and (8) an estimate of the total annual reporting burden (i.e., the estimated number of likely respondents times the proposed frequency of response per year times the average hours per response).

1. EIA-851A, “Domestic Uranium Production Report—Annual,” EIA-851Q, “Domestic Uranium Production Report—Quarterly,” and EIA-858, “Uranium Marketing Annual Survey”.

2. Energy Information Administration.

3. OMB Number: 1905-0160.

4. Revision and three year extension.

5. Mandatory.

6. EIA's Uranium Data Program collects basic data necessary to meet EIA's legislative mandates as well as the needs of EIA's public and private customers. Data collected include uranium exploration, reserves, production, processing, and marketing. The data are used for analyses and publications. Respondents include firms and individuals that comprise the U.S. uranium industry.

7. Business or other for-profit.

8. 1,185 hours annually.

Please refer to the supporting statement as well as the proposed forms and instructions for more information about the purpose, who must report, when to report, where to submit, the elements to be reported, detailed instructions, provisions for confidentiality and uses (including possible nonstatistical uses) of the information. For instructions on obtaining materials, see the FOR FURTHER INFORMATION CONTACT section.

Statutory Authority: Section 3507(h)(1) of the Paperwork Reduction Act of 1995 (Pub. L. No. 104-13) (44 U.S.C. 3501 et seq., at 3507(h)(1)).

Issued in Washington, DC, September 6, 2006.
Jay H. Casselberry,
Energy Information Administration.

[FR Doc. E6-15056 Filed 9-11-06; 8:45 am]

BILLING CODE 6450-01-P